INTERNATIONAL TRADE COMMISSION

[Investigations Nos. 731-TA-1092-1093 (Preliminary)]

Diamond Sawblades and Parts Thereof From China and Korea

AGENCY: United States International Trade Commission.

ACTION: Revised schedule for the subject investigations.

DATES: Effective May 20, 2005.

FOR FURTHER INFORMATION CONTACT: Elizabeth Haines (202-205-3200), Office of Investigations, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for these investigations may be viewed on the Commission's electronic docket (EDIS) at http://edis.usitc.gov.

SUPPLEMENTARY INFORMATION: On May 3, 2005, the Commission established a schedule for the conduct of the preliminary phase of the subject investigations (70 FR 24612, May 10, 2005). Subsequently, the Department of Commerce extended the date for its initiation of the investigations from May 23, 2005, to no later than June 13, 2005. The Commission, therefore, is postponing its conference in the investigations from May 24, 2005, to June 15, 2005, to conform with Commerce's new schedule. Any person may submit to the Commission on or before June 20, 2005, a written brief containing information and arguments pertinent to the subject matter of the investigations.

For further information concerning these investigations see the Commission's notice cited above and the Commission's Rules of Practice and Procedure, part 201, subparts A through E (19 CFR part 201), and part 207, subparts A and C (19 CFR part 207).

Authority: These investigations are being conducted under authority of title VII of the Tariff Act of 1930; this notice is published pursuant to section 207.21 of the Commission's rules.

By order of the Commission.
Issued: May 20, 2005.
Marilyn R. Abbott,
Secretary to the Commission.

[FR Doc. 05-10574 Filed 5-25-05; 8:45 am]

BILLING CODE 7020-02-P